DEPARTMENT OF LABOR

Employment and Training Administration

[TA-W-38,253]

Intercontinental Branded Apparel, Ellwood Avenue, Buffalo, New York; Notice of Revised Determination on Reconsideration

By letter of February 5, 2001, the company requested administrative reconsideration of the Department's denial of eligibility to apply for trade adjustment assistance applicable to workers and former workers of the subject firm.

The initial investigation resulted in a negative determination issued on December 18, 2000, and was published in the Federal Register on January 11, 2001 (66 FR 2450). The investigation findings showed that employment did not decrease during the relevant time period.

New information provided by the company show that employment of production workers decreased in January through November 2000, compared to January through November 1999.

At Intercontinental Branded Apparel, Ellwood Avenue, Buffalo, New York, production of coats declined in January through November 2000, compared to the same 1999 time period. During this same time period, company imports of men's suit coats increased.

Conclusion

After careful review of the additional facts obtained on reconsideration, I conclude that increased imports of articles like or directly competitive with men's suit coats contributed importantly to the declines in sales or production and to the total or partial separation of workers of Intercontinental Branded Apparel, Ellwood Avenue, Buffalo, New York. In accordance with the provisions of the Act, I make the following certification:

All workers of Intercontinental Branded Apparel, Ellwood Avenue, Buffalo, New York, who became totally or partially separated from employment on or after October 17, 1999, through two years from the date of this certification are eligible to apply for adjustment assistance under Section 223 of the Trade Act of 1974.

Signed in Washington, DC, this 21st day of February, 2001.
Edward A. Tomchick,
Certifying Officer, Division of Trade Adjustment Assistance.

[FR Doc. 01-5089 Filed 3-1-01; 8:45 am]

BILLING CODE 4510-30-M